DEPARTMENT OF ENERGY

Federal Energy Regulatory Commission

Notice of Request To Use Alternative Procedures in Preparing a License Application

July 19, 2001.

Take notice that the following request to use alternative procedures to prepare a license application has been filed with the Commission.

a. Type of Application: Request to use alternative procedures to prepare a new license application.

b. Project No.: 2101.

c. Date filed: July 13, 2001.

d. Applicant: Sacramento Municipal Water District (SMUD).

e. Name of Project: Upper American River Project.

f. Location: In the Rubicon River, Silver Creek, and South Fork American River watersheds in El Dorado and Sacramento Counties, California. The project occupies federal lands within the El Dorado National Forest.

g. Filed Pursuant to: Federal Power Act, 16 USC 791(a)-825(r).

h. Applicant Contact: David F. Hanson, Project Manager, Hydro Relicensing at (916) 732-6703.

i. FERC Contact: James Fargo at (202) 219-2848; e-mail james.fargo@ferc.fed.us.

j. Deadline for Comments: 30 days from the date of this notice.

All documents (original and eight copies) should be filed with: David P. Boergers, Secretary, Federal Energy Regulatory Commission, 888 First Street, NE., Washington, DC 20426. Comments, protests and interventions may be filed electronically via the Internet in lieu of paper. See, 18 CFR 385.2001(a)(1)(iii) and the instructions on the Commission's web site under the “e-Filing” link.

k. The Upper American River Project facilities consist of several existing reservoirs, a series of powerhouses and about 180 miles of transmission line. The project has a total installed capacity of 688,000 kilowatts.

l. SMUD has met with federal and state resources agencies, non-governmental organization (NGOs), citizen's groups, Native American tribes, businesses, and others affected by the project. SMUD has also shown that a consensus exists that the use of alternative procedures is appropriate in this case. SMUD has submitted a draft communications protocol, which it plans to finalize with the help of the stakeholders.

m. The purpose of this notice is to invite any additional comments on SMUD's request to use the alternative procedures, pursuant to Section 4.34(i) of the Commission's regulations. Additional notices seeking comments on the specific project proposal, interventions and protests, and recommended terms and conditions will be issued at a later date. SMUD will complete and file a preliminary Environmental Assessment, in lieu of Exhibit E of the license application. This differs from the traditional process, in which an applicant consults with agencies, Indian tribes, NGOs, and other parties during preparation of the license application and before filing the application, but the Commission staff performs the environmental review after the application is filed. The alternative procedures are intended to simplify and expedite the licensing process by combining the pre-filing consultation and environmental review processes into a single process, to facilitate greater participation, and to improve communication and cooperation among the participants.

SMUD intends to file 6-month progress reports during the alternative procedures process that leads to the filing of a license application by July 2005.

n. Copies of this filing are on file with the Commission and are available for public inspection. This filing may also be viewed on the web at http://www.ferc.gov using the “RIMS” link, select “Docket#” and follow the instructions (call 202-208-2222 for assistance).

David P. Boergers,
Secretary.

[FR Doc. 01-18489 Filed 7-24-01; 8:45 am]

BILLING CODE 6717-01-P